DEPARTMENT OF TRANSPORTATION

Federal Aviation Administration

Notice of Opportunity for Public Comment on Federal Obligated Property Release at Cartersville-Bartow Airport, Cartersville, Georgia

AGENCY: Federal Aviation Administration (FAA), DOT.

ACTION: Notice.

SUMMARY: Under the provisions of Title 49, U.S.C. Section 47153(c), notice is being given that the Federal Aviation Administration (FAA) is considering a request from the Cartersville-Bartow Airport Authority to waive the requirement for three (3) parcels (0.138 acres in Fee Simple and 1.469 & 0.479 acres in Easement) of federally obligated property, located at the Cartersville-Bartow Airport be used for aeronautical purposes. Currently, ownership of the property provides for protection of FAR Part 77 surfaces and compatible land use which would continue to be protected with deed restrictions required in the transfer of land ownership.

DATES: Comments must be received on or before February 25, 2016.

ADDRESSES: Documents are available for review by prior appointment at the following location: FAA/Atlanta Airports District Office, Attn: Rob Rau, 1701 Columbia Ave., Suite 220, College Park, Georgia 30337-2747, Telephone: (404) 305-6748.

Comments on this notice may be mailed or delivered in triplicate to the FAA at the following address: FAA/Atlanta Airports District Office, Attn: Rob Rau, 1701 Columbia Ave., Suite 220, College Park, Georgia 30337-2747.

In addition, one copy of any comments submitted to the FAA must be mailed or delivered to Mr. E. Keith Lovell, Attorney, Cartersville-Bartow Airport Authority at the following address: Archer & Lovell, P.C., On Behalf of: Cartersville-Bartow Airport Authority, P.O. Box 323, Cartersville, Georgia 30120.

FOR FURTHER INFORMATION CONTACT: Rob Rau, Atlanta Airports District Office, 1701 Columbia Ave., Suite 220, College Park, Georgia 30337-2747, (404)305-6748. The application may be reviewed in person at this same location.

SUPPLEMENTARY INFORMATION: The FAA is reviewing a request by the Cartersville-Bartow Airport Authority to release three (3) parcels (0.138 acres in Fee Simple and 1.469 & 0.479 acres in Easement) of federally obligated property at the Cartersville-Bartow Airport. This property was originally acquired from the Chemical Products Corporation with an Airport Improvement Program (AIP #3-13-0029-02) grant in 1985.

Any person may inspect the request in person at the FAA office listed above under FOR FURTHER INFORMATION CONTACT.

In addition, any person may, upon request, inspect the request, notice and other documents germane to the request in person at the Cartersville-Bartow Airport.

Issued in Atlanta, Georgia, on January 20, 2016.
Larry F. Clark,
Manager, Atlanta Airports District Office Southern Region.

[FR Doc. 2016-01510 Filed 1-25-16; 8:45 am]

BILLING CODE 4910-13-P